DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: Generic Clearance for Census Bureau Field Tests and Evaluations.

OMB Control Number: 0607-0971.

Form Number(s): TBD.

Type of Request: Reinstatement, with change, of a previously approved collection for which approval has expired.

Number of Respondents: 294,738 per year (884,213 total).

Average Hours per Response: 10.56 minutes.

Burden Hours: 27,771 hours annually (83,313 hours total).

Needs and Uses: The U.S. Census Bureau is committed to conducting research towards census and survey operations that costs less while maintaining high quality results. The Census Bureau requests a reinstatement, with change, of our previous OMB approval to conduct a series of studies to research and evaluate how to improve data collection activities for data collection programs at the Census Bureau. These studies will explore how the Census Bureau can improve efficiency, data quality, and response rates and reduce respondent burden in future census and survey operations, evaluations and experiments. This research program is for respondent communication, questionnaire and procedure development and evaluation purposes. We will use data tabulations to evaluate the results of questionnaire testing.

Affected Public: Individuals and households.

Frequency: Once.

Respondent's Obligation: Voluntary.

Legal Authority: Data collection for this project is authorized under the authorizing legislation for the questionnaire being tested. This may be Title 13, Sections 131, 141, 161, 181, 182, 193, and 301 for Census Bureau sponsored surveys, and Title 13 and 15 for surveys sponsored by other Federal agencies.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-24590 Filed 11-12-19; 8:45 am]

BILLING CODE 3510-07-P